FEDERAL COMMUNICATIONS COMMISSION

Notice of Public Information Collection(s) Being Reviewed by the Federal Communications Commission for Extension Under Delegated Authority

March 23, 2004.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before May 28, 2004. If you anticipate that you will be submitting comments, but find it difficult to do so within the period of time allowed by this notice, you should advise the contact listed below as soon as possible.

ADDRESSES: Direct all Paperwork Reduction Act (PRA) comments to Les Smith, Federal Communications Commission, 445 12th Street, SW., Room 1-A804, Washington, DC 20554 or via the Internet to Leslie.Smith@fcc.gov.

FOR FURTHER INFORMATION CONTACT: For additional information or copies of the information collections contact Les Smith at (202) 418-0217 or via the Internet at Leslie.Smith@fcc.gov.

SUPPLEMENTARY INFORMATION:

OMB Control Number: 3060-0029.

Title: Application for TV Broadcast Station License, FCC Form 302-TV.

Form Number: FCC 302-TV.

Type of Review: Extension of currently approved collection.

Respondents: Business or other for-profit entities; not-for-profit institutions.

Number of Respondents: 200.

Estimated Hours per Response: 1-2 hours.

Frequency of Response: On occasion reporting requirements.

Total Annual Burden: 600.

Total Annual Cost: $143,000.

Privacy Impact Assessment: No.

Needs and Uses: Licensees and permittees of TV broadcast stations are required to file FCC Form 302-TV to obtain a new or modified station license, and/or to notify the Commission of certain changes in the licensed facilities of these stations. The Commission revised the FCC 302-TV in June 2001 to facilitate electronic filing by replacing narrative exhibits with the use of certifications and an engineering technical box. The Commission also deleted and narrowed overly burdensome questions. The FCC 302-TV has been supplemented with detailed instructions to explain processing standards and rule interpretations to help ensure that applicants certify accurately. These changes streamlined the Commission's processing of FCC 302-TV applications. FCC staff use the data to confirm that the station has been built to terms specified in the outstanding construction permit, and to update FCC station files. Data are then extracted from FCC 302-TV for inclusion in the subsequent license to operate the station.

OMB Control Number: 3060-0594.

Title: Cost of Service Filing for Regulated Cable Services, FCC Form 1220.

Form Number: FCC 1220.

Type of Review: Extension of currently approved collection.

Respondents: Business or other for-profit entities; State, Local, or Tribal Government.

Number of Respondents: 20.

Estimated Hours per Response: 4-80 hours.

Frequency of Response: On occasion reporting requirement.

Total Annual Burden: 1,220 hours.

Total Annual Costs: $60,000.

Privacy Impact Assessment: No.

Needs and Uses: Cable operators file FCC Form 1220 with their Local Franchising Authorities to demonstrate the costs of providing cable service in order to justify rates above levels determined under the Commission's benchmark methodology. The Commission uses Form 1220 to determine whether cable rates for basic service, cable programming service, and associated equipment are reasonable under the Commission's rules.

OMB Control Number: 3060-0601.

Title: Setting Maximum Initiated Permitted Rates for Regulated Cable Services, FCC Form 1200.

Form Number: FCC 1200.

Type of Review: Extension of currently approved collection.

Respondents: Business or other for-profit entities; State, Local or Tribal Government.

Number of Respondents: 100.

Estimated Hours per Response: 2-10 hours.

Frequency of Response: One time reporting requirement.

Total Annual Burden: 800 hours.

Total Annual Costs: $37,500.

Privacy Impact Assessment: No.

Needs and Uses: Cable operators and local franchise authorities file FCC Form 1200 to justify the reasonableness of rates in effect on or after May 15, 1994. The FCC staff use the data to evaluate cable rates the first time they are reviewed on or after May 15, 1994, so that maximum permitted rates for regulated cable service can be determined.

Federal Communications Commission.
Marlene H. Dortch,
Secretary.

[FR Doc. 04-6945 Filed 3-26-04; 8:45 am]

BILLING CODE 6712-01-P